DEPARTMENT OF LABOR

Employment and Training Administration

[TA-W-40,710]

Alpha Carb Enterprises, Leechburg, PA; Notice of Negative Determination Regarding Application for Reconsideration

By application of June 3, 2002, the company, requested administrative reconsideration of the Department's negative determination regarding eligibility for workers and former workers of the subject firm to apply for Trade Adjustment Assistance (TAA). The denial notice was signed on April 29, 2002 and published in the Federal Register on May 17, 2002 (67 FR 35143).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Alpha Carb Enterprises, Leechburg, Pennsylvania engaged in the production of steel and tungsten carbide progressive dies, was denied because the “contributed importantly” group eligibility requirement of Section 222(3) of the Trade Act of 1974, as amended, was not met. The “contributed importantly” test is generally demonstrated through a survey of the workers' firm's customers. The Department conducted a survey of the subject firm's major customers regarding their purchases of steel and tungsten carbide progressive dies. The survey revealed that none of the customers increased their import purchases of steel and tungsten carbide progressive dies, while reducing their purchases from the subject firm during the relevant period. The subject firm did not import steel and tungsten carbide progressive dies during the relevant period.

The petitioner alleges that they believe the TAA decision was based on the company being an importer of steel and tungsten carbide progressive dies, rather than a manufacturer of steel and tungsten carbide progressive dies.

A review of the initial investigation conducted for the subject plant workers treated the worker group as production workers engaged in activities related to the production of steel and tungsten carbide progressive dies and not importers of steel and tungsten carbide progressive dies.

The petitioner further believes that their customers are importing steel and tungsten carbide progressive dies from overseas, resulting in lost business at the subject plant.

A review of the initial investigation shows that none of the respondents increased their purchases of steel and tungsten carbide progressive dies, while decreasing their purchases from the subject firm during the relevant period.

The petitioner also alleges that a local competitor was granted TAA eligibility and strongly believes they should be granted TAA eligibility based on that event.

As already indicated, the “contributed importantly” test is generally demonstrated through a survey of the workers' firm's customers. The TAA eligibility of a competitor does not show the direct impact of imports contributing to the subject plant layoffs and therefore is not relevant.

Conclusion

After review of the application and investigative findings, I conclude that there has been no error or misinterpretation of the law or of the facts which would justify reconsideration of the Department of Labor's prior decisions. Accordingly, the application is denied.

Signed at Washington, DC, this 12th day of July, 2002.
Edward A. Tomchick,
Director, Division of Trade Adjustment Assistance.

[FR Doc. 02-18642 Filed 7-23-02; 8:45 am]

BILLING CODE 4510-30-P